DEPARTMENT OF STATE

[Public Notice 5404]

Advisory Committee on Transformational Diplomacy; Notice of Meeting

The Department of State announces a meeting of the Secretary of State's Advisory Committee on Transformational Diplomacy on Tuesday June 6, 2006, at the U.S. Department of State at 2201 C Street, NW., Washington, DC. The Committee is a group of prominent Americans from the private sector that will provide the Department with advice on its worldwide management operations, including structuring, leading, and managing large global enterprises, communicating governmental missions and policies to relevant publics, and better using information technology.

The agenda for the meeting on June 6 will include issues related to global geographic repositioning, effective methods of identifying and mentoring talent, and managing a global enterprise.

The Committee will meet in open session from 10 a.m. until 12 p.m. In addition, the Committee will meet in closed session from 9 a.m. until 10 a.m. and for a short period in the afternoon in order to receive classified briefings and to discuss classified information and proprietary commercial and financial information that is considered privileged and confidential. It has been determined that these portions of the meeting will be closed to the public pursuant to section 10(d) of the Federal Advisory Committee Act and 5 U.S.C. 552b(c)(1) and 552b(c)(4).

Entry to the building is controlled and will be facilitated by advance arrangements. Members of the public (including government employees) desiring access to the session should, by June 1, 2006, notify the Advisory Committee on Transformational Diplomacy (phone: 202-647-0093) of their name, date of birth; citizenship (country); ID number, i.e., U.S. government ID (agency), U.S. military ID (branch), passport (country), or drivers license (state); professional affiliation, address, and telephone number. All attendees must use the “C” Street entrance, after being screened through the exterior screening facilities. One of the following valid IDs will be required for admittance: Any U.S. driver's license with photo, a passport, or a U.S. Government agency ID. Because an escort is required at all times, attendees should expect to remain in the meeting for the entire session.

For more information, contact Madelyn Marchessault, Designated Federal Official of the Advisory Committee on Transformational Diplomacy at 202-647-0093 or at Marchessaultms@state.gov.

Dated: May 18, 2006.
Marguerite Coffey,
Acting Director, Office of Management Policy, Department of State.

[FR Doc. 06-4819 Filed 5-22-06; 8:45 am]

BILLING CODE 4710-35-P